DEPARTMENT OF HOMELAND SECURITY

Federal Emergency Management Agency

44 CFR Part 67

[Docket ID FEMA-2011-0002; Internal Agency Docket No. FEMA-B-1200]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before October 11, 2011.

ADDRESSES: The corresponding preliminary Flood Insurance Rate Map (FIRM) for the proposed BFEs for each community is available for inspection at the community's map repository. The respective addresses are listed in the table below.

You may submit comments, identified by Docket No. FEMA-B-1200, to Luis Rodriguez, Chief, Engineering Management Branch, Federal Insurance and Mitigation Administration, Federal Emergency Management Agency, 500 C Street SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Unincorporated Areas of Solano County, California
California | Unincorporated Areas of Solano County | Sweany Creek | Approximately 375 feet upstream of the McCune Creek confluence | None | +64
|  |  | Approximately 930 feet upstream of Timm Road | None | +149
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Unincorporated Areas of Solano County
Maps are available for inspection at the Solano County Public Works Department, 675 Texas Street, Suite 5500, Fairfield, CA 94533.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Sonoma County, California, and Incorporated Areas
Colgan Creek | Approximately 500 feet upstream of Llano Road | None | +80 | City of Santa Rosa, Unincorporated Areas of Sonoma County.
| Approximately 0.98 mile upstream of Meda Avenue | None | +356
Naval Creek | Approximately 960 feet upstream of Llano Road | None | +79 | City of Santa Rosa, Unincorporated Areas of Sonoma County.
| Approximately 0.57 mile upstream of Wright Road | None | +97
Roseland Creek | Approximately 0.5 mile downstream of Llano Road | None | +79 | City of Santa Rosa, Unincorporated Areas of Sonoma County.
| Approximately 1,000 feet upstream of Dutton Avenue | None | +142
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Santa Rosa
Maps are available for inspection at 100 Santa Rosa Avenue, Room 3, Santa Rosa, CA 95404.
Unincorporated Areas of Sonoma County
Maps are available for inspection at 575 Administration Drive, Room 100A, Santa Rosa, CA 95404.
Wilson County, North Carolina, and Incorporated Areas
Black Creek | At the Contentnea Creek confluence | +69 | +66 | Town of Black Creek, Unincorporated Areas of Wilson County.
| Approximately 50 feet upstream of U.S. Route 117 | +92 | +91
Black Creek Tributary | Approximately 1,500 feet upstream of the Black Creek confluence | +93 | +92 | Town of Lucama, Unincorporated Areas of Wilson County.
| Approximately 100 feet upstream of the Tributary to Black Creek Tributary confluence | +103 | +102
Bloomery Swamp | Approximately 500 feet upstream of the Bloomery Swamp Tributary 2 confluence | +103 | +102 | City of Wilson, Unincorporated Areas of Wilson County.
| At the Millstone Creek and Juniper Creek confluence | +156 | +155
Bloomery Swamp Tributary 3 | Approximately 50 feet upstream of Alternate U.S. Route 264 | +133 | +130 | City of Wilson, Unincorporated Areas of Wilson County.
| Approximately 1,560 feet upstream of Packhouse Road (State Route 1382) | +151 | +150
Contentnea Creek | Approximately 1,800 feet downstream of North Carolina Highway 58 | +62 | +59 | Town of Stantonsburg, Unincorporated Areas of Wilson County.
| Approximately 0.8 mile downstream of the Little Swamp confluence | +110 | +109
Contentnea Creek Tributary | At the Contentnea Creek confluence | +76 | +77 | Town of Black Creek, Unincorporated Areas of Wilson County.
| Approximately 1,920 feet upstream of Yank Road (State Route 1615) | None | +106
Goss Swamp | At the Toisnot Swamp confluence | +62 | +63 | Town of Stantonsburg, Unincorporated Areas of Wilson County.
| Approximately 0.8 mile upstream of the Toisnot Swamp confluence | +63 | +64
Hog Island Tributary | At the Toisnot Swamp confluence | +99 | +98 | City of Wilson, Unincorporated Areas of Wilson County.
| Approximately 50 feet downstream of Firestone Parkway (State Route 1328) | None | +109
Hominy Swamp Tributary 1 | Approximately 0.5 mile upstream of the Hominy Swamp confluence | +86 | +85 | City of Wilson, Unincorporated Areas of Wilson County.
| Approximately 75 feet upstream of Tuskeegee Street | None | +131
Little Swamp | Approximately 1.6 miles upstream of the Contentnea Creek confluence | +117 | +116 | Unincorporated Areas of Wilson County.
| Approximately 140 feet upstream of Radio Tower Road (State Route 1152) | None | +163
Marsh Swamp | Approximately 0.6 mile upstream of the Contentnea Creek confluence | +126 | +125 | Unincorporated Areas of Wilson County.
| Approximately 1,600 feet upstream of the dam | None | +230
Marsh Swamp Tributary | At the Marsh Swamp confluence | +145 | +141 | Unincorporated Areas of Wilson County.
| Approximately 1,830 feet upstream of High Road (State Route 1148) | None | +196
Mill Branch (into Contentnea Creek) | Approximately 1,900 feet upstream of the Contentnea Creek confluence | +107 | +108 | Unincorporated Areas of Wilson County.
| Approximately 410 feet upstream of I-95 | None | +140
Millstone Creek | At the Bloomery Swamp and Juniper Swamp confluence | +156 | +155 | Unincorporated Areas of Wilson County.
| Approximately 530 feet upstream of Countryside Road (State Route 1302) | +159 | +160
Shepard Branch | Approximately 0.7 mile upstream of the Contentnea Creek confluence | +107 | +106 | City of Wilson, Unincorporated Areas of Wilson County.
| Approximately 0.8 mile upstream of Old Raleigh Road (State Route 1136) | None | +134
Toisnot Swamp | Approximately 1,400 feet upstream of the Contentnea Creek confluence | +62 | +59 | City of Wilson, Town of Stantonsburg, Unincorporated Areas of Wilson County.
| Approximately 0.8 mile upstream of Lake Wilson Road | +120 | +121
Toisnot Swamp Tributary | At the Toisnot Swamp confluence | +106 | +107 | City of Wilson, Unincorporated Areas of Wilson County.
| Approximately 1.2 miles upstream of the Tributary 2 to Toisnot Swamp Tributary confluence | +155 | +145
Tributary 1 to Toisnot Swamp Tributary | At the Toisnot Swamp Tributary confluence | +134 | +131 | City of Wilson, Unincorporated Areas of Wilson County.
| Approximately 1,150 feet upstream of Grandy Drive | None | +152
Tributary 2 to Toisnot Swamp Tributary | At the Toisnot Swamp Tributary confluence | +135 | +132 | City of Wilson, Unincorporated Areas of Wilson County.
| Approximately 0.6 mile upstream of the Toisnot Swamp Tributary confluence | None | +144
Tributary to Black Creek Tributary | At the Black Creek Tributary confluence | +103 | +102 | Town of Lucama, Unincorporated Areas of Wilson County.
| Approximately 330 feet upstream of Little Rock Church Road (State Route 1649) | None | +118
Whiteoak Swamp | At the Buck Branch confluence | +79 | +80 | Unincorporated Areas of Wilson County.
| Approximately 800 feet upstream of the Mill Branch (into Whiteoak Swamp) confluence | +83 | +84
Whiteoak Swamp Tributary | At the Whiteoak Swamp confluence | +81 | +82 | Unincorporated Areas of Wilson County.
| Approximately 160 feet upstream of Etheridge Road (State Route 1522) | None | +88
Wiggins Mill Tributary | Approximately 0.4 mile upstream of Forest Hills Road | +100 | +99 | City of Wilson, Unincorporated Areas of Wilson County.
| Approximately 1.7 miles upstream of Forest Hills Road | +116 | +120
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Wilson
Maps are available for inspection at City Hall, 112 Goldsboro Street, Wilson, NC 27893.
Town of Black Creek
Maps are available for inspection at the Town Hall, 112 West Center Street, Black Creek, NC 27813.
Town of Lucama
Maps are available for inspection at the Town Hall, 111 South Main Street, Lucama, NC 27851.
Town of Stantonsburg
Maps are available for inspection at the Town Hall, 108 East Commercial Avenue, Stantonsburg, NC 27883.
Unincorporated Areas of Wilson County
Maps are available for inspection at the Wilson County Manager's Office, 2201 Miller Road South, Wilson, NC 27893.

(Catalog of Federal Domestic Assistance No. 97.022, “Flood Insurance.”)

Dated: June 15, 2011.
Sandra K. Knight,
Deputy Federal Insurance and Mitigation Administrator, Mitigation, Department of Homeland Security, Federal Emergency Management Agency.

[FR Doc. 2011-17342 Filed 7-8-11; 8:45 am]

BILLING CODE 9110-12-P